DEPARTMENT OF ENERGY

Federal Energy Regulatory Commission

[Docket No. ER04-230-009, et al.]

New York Independent System Operator, Inc., et al.; Electric Rate and Corporate Filings

March 18, 2005.

The following filings have been made with the Commission. The filings are listed in ascending order within each docket classification.

1. New York Independent System Operator, Inc.

[Docket No. ER04-230-009]

Take notice that on March 9, 2005, the New York Independent Operator, Inc. (NYISO) submitted a request for waiver of tariff provisions as needed to enable the NYISO to correct errors in price determinations resulting from certain problems encountered in the implementation of the NYISO's Standard Market Design version 2 software. The NYISO has requested expedited action.

Comment Date: 5 p.m. eastern time on March 28, 2005.

2. PJM Interconnection, L.L.C.

[Docket No. ER05-626-001]

Take notice that on March 4, 2005, PJM Interconnection, L.L.C. (PJM) submitted a clarification to its February 18, 2005, filing submitting revised tariff sheets in compliance with the Order No. 2003-B issued December 20, 2004, Standardization of Generator Interconnection Agreements and Procedures, 109 FERC ¶ 61,287 (2004). PJM states that the revised tariff sheets should have an effective date of January 19, 2005, not February 18, 2005 as previously stated in the notice issued February 24, 2005 in Docket No. ER05-626-000.

Comment Date: 5 p.m. eastern time on March 25, 2005.

3. Premcor Power Marketing LLC

[Docket No. ER05-680-000]

Take notice that on March 4, 2005, Premcor Power Marketing LLC (Premcor Power) submitted for filing a petition for acceptance of its initial rate schedule and the grant of certain blanket approvals, including the authority to sell electricity at market-based rates, and the grant of waiver of certain Commission regulations. Premcor Power states that it intends to engage in wholesale electric power and energy purchases and sales as a marketer. Premcor Power further states it is not engaged in the business of generating or transmitting electric power.

Comment Date: 5 p.m. eastern time on March 25, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-1302 Filed 3-24-05; 8:45 am]

BILLING CODE 6717-01-P